ENVIRONMENTAL PROTECTION AGENCY

[FRL-7515-8]

Air Quality Criteria for Particulate Matter (Fourth External Review Draft)

AGENCY: Environmental Protection Agency (EPA).

ACTION: Notice of a draft for public review and comment.

SUMMARY: On or about June 30, 2003, the National Center for Environmental Assessment (NCEA), within EPA's Office of Research and Development, will make available for public review and comment a fourth external review draft of a revised EPA document, Air Quality Criteria for Particulate Matter. Under sections 108 and 109 of the Clean Air Act, the purpose of the revised document is to provide an assessment of the latest scientific information on the effects of airborne particulate matter (PM) on the public health and welfare, for use in EPA's current review of the National Ambient Air Quality Standards (NAAQS) for PM.

DATES: Comments on the draft document must be submitted in writing no later than August 31, 2003. Send the written comments to the Project Manager for Particulate Matter, National Center for Environmental Assessment-RTP (B243-01), U.S. Environmental Protection Agency, Research Triangle Park, NC 27711.

ADDRESSES: A copy of the EPA document, Air Quality Criteria for Particulate Matter (Fourth External Review Draft), consisting of two volumes, will be available on CD ROM from NCEA-RTP. Contact Ms. Diane Ray by phone (919-541-3637), fax (919-541-1818), or email (ray.diane@epa.gov) to request the document. Please provide the document's title, Air Quality Criteria for Particulate Matter (Fourth External Review Draft), and the EPA numbers for each of the two volumes (EPA/600/P-99/002aD and EPA/600/P-99/002bD), as well as your name and address, to facilitate processing of your request. Internet users will be able to download a copy from the NCEA Web site at http://www.epa.gov/ncea. Hard copies of the draft document can also be made available upon request to Ms. Ray.

FOR FURTHER INFORMATION CONTACT: Dr. Robert Elias, National Center for Environmental Assessment-RTP (B243-01), U.S. Environmental Protection Agency, Research Triangle Park, NC 27711; telephone: 919-541-4167; fax: 919-541-1818; e-mail: elias.robert@epa.gov.

SUPPLEMENTARY INFORMATION: EPA is in the process of updating, and revising where appropriate, the document Air Quality Criteria for Particulate Matter as issued in 1996. Sections 108 and 109 of the Clean Air Act require that EPA carry out a periodic review and revision, where appropriate, of the air quality criteria and the NAAQS for “criteria” air pollutants such as PM. Details of EPA's plans for the review of the NAAQS for PM were initially announced in a previous Federal Register notice (62 FR 55201, October 23, 1997).

EPA made a First External Review Draft of the updated Air Quality Criteria for Particulate Matter available in 1999 for review by members of the public and the Clean Air Scientific Advisory Committee (CASAC) (64 FR 57884, October 27, 1999). Following that public review and a meeting of the CASAC in December 1999 (64 FR 61875, November 15, 1999), EPA revised the document in response to CASAC and public comments, as well as to reflect additional new studies on PM effects that were not available in time for the First External Review Draft.

In April 2001, EPA made a Second External Review Draft of Air Quality Criteria for Particulate Matter available for public and CASAC review (66 FR 18929, April 12, 2001). Following that public review and a second CASAC meeting in July 2001 (66 FR 34924, July 2, 2001), EPA again revised the document in response to CASAC and public comments and to reflect more new PM studies that had become available.

EPA then made a Third External Review Draft of Air Quality Criteria for Particulate Matter available for public and CASAC review in May 2002 (67 FR 31303, May 9, 2002). Following that public review and a third CASAC meeting in July 2002 (67 FR 41723, June 19, 2002), EPA has again revised the document in response to CASAC and public comments and to take into account peer-reviewed analyses of a number of epidemiological studies conducted to address statistical modeling issues that were identified after release of the Third External Review Draft.

EPA is now making the Fourth External Review Draft available for public comment and CASAC review. The public comment period (60 days) will close a few days after a CASAC public review meeting scheduled for August 25-26, 2003 (location to be announced in future Federal Register notice). Members of the public will be able to make brief oral statements during time set aside at that meeting for public comments. After the CASAC meeting and the close of the public comment period, EPA intends to make final revisions to complete the document in December, 2003.

On June 15, 2001, EPA's Office of Air Quality Planning and Standards (OAQPS) made available (66 FR 32621, June 15, 2001) for public review and comment a preliminary draft Staff Paper (SP) that drew on information in the earlier draft Air Quality Criteria document. The preliminary draft SP was also submitted to CASAC for discussion with the Committee at its July 2001 meeting. In January 2002 (67 FR 3897, January 28, 2002), OAQPS also made available for CASAC and public review and comment a draft document, Proposed Methodology for Particulate Matter Risk Analyses for Selected Urban Areas, which was reviewed by CASAC at a public teleconference on February 27, 2002.

OAQPS is now preparing a draft health risk assessment document based on the proposed methodology and is revising the draft SP to address CASAC and public comments and to incorporate updated information from the current draft Air Quality Criteria document. As in other NAAQS reviews, the SP will evaluate policy implications of key studies and other scientific information in the criteria document, identify critical elements that EPA staff believes should be considered, and present staff conclusions and recommendations for the Administrator's consideration.

Dates and details of availability of the updated draft SP and of the draft health risk assessment document and plans for future public CASAC review meetings on the SP and the draft health risk assessment document will be published in future Federal Register notices.

Dated: June 13, 2003.
Peter W. Preuss,
Director, National Center for Environmental Assessment.

[FR Doc. 03-15665 Filed 6-19-03; 8:45 am]

BILLING CODE 6560-50-P